DEPARTMENT OF HEALTH AND HUMAN SERVICES

National Institutes of Health

National Heart, Lung, and Blood Institute; Amended Notice of Meeting

Notice is hereby given of a change in the meeting of the National Heart, Lung, and Blood Institute Advisory Council, October 29, 2025, 8:30 a.m. to 5:00 p.m., National Institutes of Health, Claude D. Pepper Building, 31 Center Drive, Bethesda, MD, 20894, which was published in the Federal Register on September 17, 2025, FR 2025-17998, 90 FRN 44834.

The National Heart, Lung, and Blood Advisory Council open meeting is being amended due to change of the meeting times. The meeting will be held on October 29, 2025, from 9:30 a.m. to 5:00 p.m. This meeting is open to the public.

Denise M. Santeufemio,
Supervisory Program Analyst, Office of Federal Advisory Committee Policy.

[FR Doc. 2025-19206 Filed 10-1-25; 8:45 am]

BILLING CODE 4140-01-P